NUCLEAR REGULATORY COMMISSION

Notice of Additional Scoping Meeting for the Mixed Oxide Fuel Fabrication Facility

AGENCY: Nuclear Regulatory Commission.

ACTION: Notice of additional scoping meeting.

SUMMARY: The U.S. Nuclear Regulatory Commission (NRC) announces its intent to conduct an additional scoping meeting associated with the preparation of an Environmental Impact Statement (EIS) for construction, operation and deactivation of a proposed Mixed Oxide (MOX) Fuel Fabrication Facility (Facility) to be constructed at the Department of Energy's (DOE) Savannah River Site (SRS) in South Carolina. The NRC published a Notice of Intent to prepare an Environmental Impact Statement for the mixed oxide fuel fabrication facility (NOI) in the Federal Register on March 7, 2001 (66 FR 13794). The NOI announced two meetings on April 17 and 18, 2001, in North Augusta, South Carolina, and Savannah, Georgia, respectively. In addition to these meetings, we will hold a scoping meeting on May 8, 2001, in Charlotte, North Carolina.

DATES: The public scoping process required by the National Environmental Policy Act began with publication of the NOI in the Federal Register and continues until May 21, 2001. Written comments submitted by mail should be postmarked by that date to ensure consideration. Comments mailed after that date will be considered to the extent practical.

The public scoping meetings are to assist the NRC in defining the appropriate scope of the EIS, including the significant environmental issues to be addressed. The meeting dates, times and locations are listed below. Prior to the Scoping Meetings, NRC staff will be available to informally discuss the MOX project and answer questions in an “open house” format.

April 17, 2001

North Augusta Community Center, 496 Brookside Drive, North Augusta, SC, Scoping Meeting Time: 7:00 p.m. to 10:00 p.m., Open House Time: 5:30 p.m. to 7:00 p.m.

April 18, 2001

Coastal Georgia Center, 305 Martin Luther King Boulevard, Savannah, GA, Scoping Meeting Time: 7:00 p.m. to 10:00 p.m., Open House Time: 5:30 p.m. to 7:00 p.m.

May 8, 2001

Charlotte-Mecklenburg Government Center, 600 E. Fourth Street, Charlotte, NC, Scoping Meeting Time: 7:00 p.m. to 10:00 p.m., Open House Time: 6:00 p.m. to 7:00 p.m.

ADDRESSES: To register for a meeting, to provide comments or suggestions on the scope of the EIS, or to make requests for special arrangements to enable participation at scoping meetings (e.g., an interpreter for the hearing impaired), please contact: Tim Harris at (301) 415-6613 or Betty Garrett at (301) 415-5808.

FOR FURTHER INFORMATION CONTACT: For general or technical information pertaining to the proposed MOX Facility, please contact: Tim Johnson at (301) 415-7299 or Andrew Persinko at (301) 415-6522. For general information on the NRC environmental review process, please contact: Jennifer Davis at (301) 415-5874 or Tim Harris at (301) 415-6613.

Availability of Documents for Review

Information and documents associated with the MOX project, including the Duke Cogema Stone & Webster Environmental Report submitted in December 2000, and the Construction Authorization Request, may be obtained from the internet on NRC's MOX web page: http://www.nrc.gov/NRC/NMSS/MOX/index.html (case sensitive). In addition, documents are available for public review through our electronic reading room: http://www.nrc.gov/NRC/ADAMS/index.html. Documents may also be obtained from NRC's Public Document Room at U.S. Nuclear Regulatory Commission, Public Document Room, Washington, DC 20555.

SUPPLEMENTARY INFORMATION:

Scoping Meetings

One purpose of the NOI and this notice is to encourage public involvement in the EIS process and to solicit public comments on the proposed scope and content of the EIS.

Scoping is an early and open process designed to determine the range of actions, alternatives, and potential impacts to be considered in the EIS, and to identify the significant issues related to the proposed action. It is intended to solicit input from the public and other agencies so that the analysis can be more clearly focused on issues of genuine concern. The principal goals of the scoping process are to:

• Ensure that concerns are identified early and are properly studied;

• Identify alternatives that will be examined;

• Identify significant issues that need to be analyzed;

• Eliminate unimportant issues; and

• Identify public concerns.

Scoping Comments

Written comments may be mailed to Mike Lesar, Chief, Rules and Directives Branch, Division of Administrative Services, Office of Administration, Mail Stop T6D59, U.S. Nuclear Regulatory Commission, Washington DC 20555. Interested parties may e-mail comments to teh@nrc.gov. Comments also will be accepted by fax at 301-415-5398, Attention: Tim Harris.

Following the scoping meetings, NRC will make the scoping summaries available for public review through our electronic reading room: http://www.nrc.gov/NRC/ADAMS/index.html. The scoping meeting summaries will also be available on the NRC's MOX web page: http://www.nrc.gov/NRC/NMSS/MOX/index.html (case sensitive).

The NEPA Process

The EIS for the MOX Facility will be prepared according to the National Environmental Policy Act of 1969, the Council on Environmental Quality's Regulations for Implementing the Procedural Provisions of NEPA (40 CFR parts 1500-1508), and NRC's NEPA Implementing Regulations (10 CFR part 51).

The draft EIS is scheduled to be published in February 2002. A 45-day comment period on the draft EIS is planned, and public meetings to receive comments will be held approximately three weeks after distribution of the draft EIS. Availability of the draft EIS, the dates of the public comment period, and information about the public meetings will be announced in the Federal Register, on NRC's MOX web page, and in the local news media when the draft EIS is distributed. The final EIS, which will incorporate public comments received on the draft EIS, is expected in September 2002.

Signed in Rockville, MD, this 5th day of April 2001.
For the Nuclear Regulatory Commission.
Sandra Wastler,
Acting Chief, Environmental and Performance Assessment Branch, Division of Waste Management, Office of Nuclear Material Safety and Safeguards.

[FR Doc. 01-8891 Filed 4-10-01; 8:45 am]

BILLING CODE 7590-01-P